DEPARTMENT OF HEALTH AND HUMAN SERVICES

National Institutes of Health

Center for Scientific Review; Amended Notice of Meeting

Notice is hereby given of a change in the meeting of the Center for Scientific Review Special Emphasis Panel, March 12, 2004, 11 a.m. to March 12, 2004, 12 p.m., National Institutes of Health, 6701 Rockledge Drive, Bethesda, MD 20892 which was published in the Federal Register on March 8, 2004, 69 FR 10727-10730.

The meeting will be held March 18, 2004. The meeting time and location remain the same. The meeting is closed to the public.

Dated: March 10, 2004.
LaVerne Y. Stringfield,
Director, Office of Federal Advisory Committee Policy.

[FR Doc. 04-5955 Filed 3-16-04; 8:45 am]

BILLING CODE 4140-01-M